COMMISSION ON CIVIL RIGHTS

Sunshine Act Meeting

AGENCY: United States Commission on Civil Rights.

ACTION: Notice of Commission Business Meeting.

DATES: Date and Time: Friday, September 11, 2015; 10:00 a.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Status on Commission Reports and hiring of contractors by OCRE

• Discussion on hearing dates for 2016 Statutory Enforcement Report

• Discussion On Changing October 16 and November 6 Commission Business Meeting Dates

• Discussion and vote on part A of Peaceful Coexistence report

III. Management and Operations

• Staff Director Report

IV. State Advisory Committee (SAC) Appointments

• Ohio

V. Adjourn Meeting

Dated: September 3, 2015.
David Mussatt,
Chief, Regional Programs Unit U.S. Commission on Civil Rights.

[FR Doc. 2015-22652 Filed 9-3-15; 4:15 pm]

BILLING CODE 6335-01-P